FEDERAL MINE SAFETY AND HEALTH REVIEW COMMISSION

Sunshine Act Meeting

February 3, 2000.

TIME AND DATE: 10 a.m., Thursday, February 10, 2000.

PLACE: Room 6005, 6th Floor, 1730 K Street, NW., Washington, DC.

STATUS: Closed [Pursuant to 5 U.S.C. § 552b(c)(10)].

MATTERS TO BE CONSIDERED: This Commission meeting is a continuation of the Commission meeting held in closed session on January 27, 2000, to discuss the following:

1. Pero v. Cyprus Plateau Mining Corp., Docket No. WEST 97-154-D (Issues include whether substantial evidence supports the judge's finding that the operator did not discriminate against Pero in violation of section 105(c).).

CONTACT PERSON FOR MORE INFORMATION: Jean Ellen (202) 653-5629/(202) 708-9300 for TDD Relay/1-800-877-8339 for toll free.

Jean H. Ellen,
Chief Docket Clerk.

[FR Doc. 00-3365 Filed 2-9-00; 1:15 pm]

BILLING CODE 67635-01-M